DEPARTMENT OF TRANSPORTATION

Coast Guard

33 CFR Parts 100, 110, and 165

[CGD01-99-191]

RIN 2115-AA97, AA98, AE46

Temporary Regulations: Sail Boston 2000, Port of Boston, MA.

AGENCY: Coast Guard, DOT.

ACTION: Temporary final rule.

SUMMARY: The Coast Guard is establishing temporary regulations, including regulated areas, safety and security zones, and spectator anchorages before, during, and after Sail Boston 2000 events in the Port of Boston, Massachusetts, between July 10-16, 2000. These regulations are necessary to promote the safe navigation of vessels and the safety of life and property during the heavy volume of vessel traffic expected during the events.

DATES: This rule is effective from July 10, 2000 until July 16, 2000.

ADDRESSES: Comments and material received from the public, as well as documents, indicated in this preamble as being available in the docket, are part of docket CGD01-99-191 and are available for inspection and copying at the Coast Guard Marine Safety Office Boston, 455 Commercial Street, Boston, MA 02109 between 7:30 a.m. and 4 p.m. Monday through Friday, except Federal holidays.

FOR FURTHER INFORMATION CONTACT: Lieutenant Brian J. Downey, Marine Safety Office Boston, Waterways Management Division, (617) 223-3006.

SUPPLEMENTARY INFORMATION:

Regulatory Information

On March 15, 2000, the Coast Guard published a notice of proposed rulemaking (NPRM) entitled Temporary Regulations: Sail Boston 2000, Port of Boston, MA in the Federal Register Volume 65, Page 13926. The Coast Guard received two letters commenting on the proposed rule. No public hearing was requested, and none was held. Comments received have resulted in modification of the final rule; therefore, under 5 U.S.C. 553(d)(3), the Coast Guard finds good cause for making this rule effective in less than 30 days.

On March 9, 2000 the Captain of the Port, Boston hosted a meeting for small passenger vessel operators to detail the scope and content of the marine events and proposed regulations. The meeting yielded no comments.

Background and Purpose

The temporary regulations are for Sail Boston 2000 events held in Boston Harbor. These events are from July 10 through 16, 2000. This rule provides for the safety of life on navigable waters and to protect U.S. Navy vessels, tall ships, spectators, and the Port of Boston during these events. At the time of this Final rule, Sail Boston 2000 events include the following:

1. July 10-11: Tall Ship Rally.

2. July 11: Grand Parade of Sail.

4. July 11-16: Safety and Security Zones.

5. July 11-16: USS JOHN F. KENNEDY and Support Vessel Visits.

6. July 12-15: Public Boarding of Tall Ships.

7. July 15: Boston 2000 Fireworks Extravaganza.

8. July 16: Salute to USS CONSTITUTION Parade.

9. July 16: Tall Ships 2000 Race Restart.

Discussion of Comments and Changes

The Coast Guard received one telephonic comment regarding a slight coordinate inaccuracy in 33 CFR 110.T01-135-191(6) describing Spectator Anchorage B. The error was verified and corrected to properly reflect the anchorage boundary and has no regulatory effect. Moreover, additional coordinates were included for regulation locations throughout this Final rule. The coordinates are intended to clarify locations described in the Final rule and do not change its regulatory impact.

The Coast Guard received a written comment regarding marine sanitation pumpout boats. The Commonwealth of Massachusetts is promoting the use of pumpout boats among spectator craft to reduce potential sewage discharge in state waters. The comment suggested pumpout boats should be permitted to move freely among the spectator anchorages during the various marine events to remove spectator craft sewage. Further, the pumpout boats intend to provide no cost service to the attending boating public during the marine events. The suggestion conflicts with the restrictions imposed as temporary regulations hereunder in amendments to 33 CFR parts 100 and 110. However, the pumpout boats will proactively advance the Coast Guard's and Massachusetts' pollution prevention policies. The Coast Guard decided to alter 33 CFR 100.T01-191(9) and 33 CFR 110.T01-135-191(b)(xii) to permit pumpout boats limited access to move within specific spectator anchorages. The regulation does not permit pumpout boats to cross any main channels or intended tall ship parade routes during the effective periods.

The Coast Guard received another comment requesting non-participating tall ships to be permitted into safety zones during effective periods. The temporary safety zones are specifically and clearly designed to facilitate participating vessels only. Participating vessels are represented by the event sponsor who is the Coast Guard Marine Event Permit applicant. As part of the marine event permit, the Coast Guard requires the event sponsor to satisfy various safety, pollution prevention, and vessel traffic requirements before the event permit is issued. Should non-participating vessels enter the safety zones, it will cause confusion and diminish safety, as the Masters will not be apprised of special operating instructions. The Coast Guard has not amended regulations in response to this comment. The same comment also suggested Spectator Anchorage G to be exclusively used by tall ships which choose not to use berthing. The regulations were not changed in response to this comment because Spectator Anchorage G already permits use by any vessel which is authorized by the Captain of the Port, which includes tall ships which choose not to use berthing.

The Coast Guard also received a comment regarding the USS JOHN F. KENNEDY'S security zone detailed in 33 CFR 165.TO1-195. The comment suggested there is little need for the security zone to extend continuously from July 10, 2000 through July 16, 2000. The Coast Guard has decided to leave the defined security zone boundary in 33 CFR 165.TO1-195(a), however, the Captain of the Port will broadcast times when mariners will be allowed to pass through the security zone. Times when mariners can pass through the security zone will be announced via Coast Guard Safety Marine Information Broadcasts on VHF radio using channels 13 and 16. Announcements will start at least one hour prior to when mariners will be permitted in the zone, and will continue for the period the Captain of the Port permits transit through the zone.

The Coast Guard also changed the introductory note in § 110.155 to emphasize the mariners' need to exercise caution while using the temporarily designated spectator anchorages for Sail Boston 2000. While the Coast Guard is not aware of any safety problems associated with these temporary spectator anchorages, the Coast Guard makes no assurances of the holding power of each area nor that the bottoms are free from obstructions. Mariners are advised to take appropriate precautions including using all means available to ensure their vessels are not dragging anchor. Verbal discussion at an April 24, 2000 Marine Safety Office Boston Waterways Management meeting suggested an alternate arrangement for spectator Anchorages K and L found in 33 CFR 110.T01-135-191(a)(14) and (15). To better accommodate Parade of Sail viewing from a Disabled American Veterans' site on Long Island, the Coast Guard has switched Spectator Anchorages K and L functions on July 10-11, 2000. On July 10-11, 2000 Spectator Anchorage L will be a special use anchorage. On July 10-11, 2000 Spectator Anchorage K will accommodate inspected small passenger vessels. On July 15-16, 2000 Spectator Anchorage K will be a special use anchorage as originally planned. On July 15-16, 2000 Spectator Anchorage L will accommodate inspected small passenger vessels as originally planned. The partial anchorage switch improves viewing for the disabled without affecting safety. This change from the NPRM does not alter the regulatory effect of this final rule since the boundaries of the anchorages remain the same, and spectator areas for inspected small passenger vessels continue to be provided.

Regulated Areas

Regulated Area A covers all waters of Broad Sound and Boston Outer Harbor bounded by lines drawn along the coordinates 070°52′00″ W, 070°57′13″ W, 42°17′30″ N, and 42°24′42″ N including the following waterways: Nahant Bay, Broad Sound, Boston North Channel, Boston South Channel, Nubble Channel, Hull Bay, and Nantasket Roads. The area also includes all temporary spectator anchorages established in 33 CFR 110.T01-135-191. Regulated Area A is applicable from 8 a.m. until 6 p.m. on July 11, 2000 and 8 a.m. until 6 p.m. on July 16, 2000.

Regulated Area B covers all waters of Boston Inner Harbor westward from a line drawn between Deer Island at position 42°20′38″ N, 070°57′13″ W and Long Island at position 42°19′51″ N, 070°57′13″ W including President Roads, Sculpin Ledge Channel, Dorchester Bay, Western Way, the Boston Main Channel, the Reserved Channel to the Summer Street retractile bridge, the Fort Point Channel to the Congress Street Bridge, the Charles River to the Gridley Locks at the Charles River Dam, the Mystic River to the Alford Street Bridge, and the Chelsea River to the McArdle Bridge. The area also includes all temporary spectator anchorages established in 33 CFR 110.T01-135-191. Regulated Area B is applicable from 8 a.m. on July 11, 2000 until 6 p.m. on July 16, 2000.

Regulated Area C is an Emergency Transit Lane from Boston Main Channel Light “5” to Charlestown Navy Yard Pier “1” extending fifty (50) yards into the outbound lane of the Boston Main Channel. The lane allows unlimited access to emergency and law enforcement vessels. The emergency lane restriction imposed by Regulated Area C are applicable from 8 a.m. until 6 p.m. on July 11, 2000 and from 8 a.m. until 6 p.m. July 16, 2000.

Anchorage Regulations

The Coast Guard has established temporary anchorage regulations for participating Sail Boston 2000 ships and spectator craft. 33 CFR 110.134 is temporarily suspended by this regulation and new spectator anchorages and regulations are temporarily established.

The anchorage regulations temporarily establish spectator anchorages for spectator craft or Sail Boston 2000 participant vessel use only. They restrict all other vessels from using these spectator anchorages during Sail Boston 2000 events. The applicable dates for the temporary spectator anchorages are July 10 and 11, 2000 and July 15 and 16, 2000.

Security Zone

A security zone protecting the moored U.S. naval aircraft carrier USS JOHN F. KENNEDY is effective from July 10, 2000 until July 16, 2000 around Boston Inner Harbor's North Jetty, in South Boston. All safety and security zones will be easily identifiable by patrolling Coast Guard and law enforcement craft.

Safety Zones

On July 11, 2000 from 8 a.m. until 6 p.m. a three hundred (300) yard moving safety zone around participating tall ships is imposed for Broad Sound and Boston Harbor. The safety zone will ensure the safety of participating tall ships and spectator craft during the Grand Parade of Sail. On July 15, 2000 a four hundred (400) yard safety zone surrounding fireworks barges in Boston Inner Harbor is imposed from 8 p.m. until 11 p.m. The safety zone will ensure the safety of spectator craft during the scheduled fireworks displays. From 8 a.m. until 6 p.m July 16, 2000, a three hundred (300) yard moving safety zone around each participating tall ship is effective for Boston Harbor and Broad Sound. The safety zone will ensure the safety of participating tall ships and spectator craft during the Salute to the USS CONSTITUTION Parade. On July 16, 2000 a three (3) square mile safety zone is in effect for Massachusetts Bay off of Nahant from 10 a.m. until 6 p.m. This three (3) square mile area will serve as the staging area for the Tall Ships 2000 Race Restart. The safety zone will ensure the safety of participating tall ships and spectator craft during the Tall Ships 2000 Race Restart. A three hundred (300) yard moving safety zone around each participating tall ship is also in effect for the Tall Ships 2000 Race Restart as each proceeds from its respective berth to the staging area on July 16, 2000. For more navigational chart information regarding this safety zone, see ADDRESSES.

Regulatory Evaluation

This rule is not a significant regulatory action under section 3(f) of Executive Order 12866 and does not require an assessment of potential costs and benefits under section 6(a)(3) of that Order. The Office of Management and Budget has not reviewed it under that Order. It is not significant under the regulatory policy and procedures of the Department of Transportation (DOT)(44 FR 11040, February 26, 1979). The economic impact of this rule is expected to be so minimal that a full Regulatory Evaluation under paragraph 10e of the regulatory policies and procedures of DOT is unnecessary.

Although these regulations impose traffic restrictions in portions of Boston Harbor during the events, the effect of the regulations are not significant for the following reasons: The regulated areas, spectator anchorages, and safety and security zones are limited in duration; and extensive advance notice was made to the maritime community via Local Notice to Mariners, facsimile, marine safety information broadcasts, local Port Operators' Group meetings, Propeller Club meetings, the Internet, and Boston area newspapers and media. Also, on March 9 the Captain of the Port, Boston hosted a meeting of small passenger vessel operators to detail the scope and content of the marine events and proposed regulations. The advance notice permits mariners to adjust their plans accordingly. Additionally, these regulated areas are tailored to impose the least impact on maritime interests without compromising safety.

Similar regulated areas and safety and security zones were established for Sail Boston 1992 events. Based upon the Coast Guard's experiences from that previous event of similar magnitude, these regulations have been narrowly tailored to impose the least impact on maritime interests yet provide the necessary level of safety.

Small Entities

Under the Regulatory Flexibility Act (5 U.S.C. 601-612), an initial review was conducted to determine whether this rule would have a significant economic impact on a substantial number of small entities. The term “small entities” comprises small businesses, not-for-profit organizations that are independently owned and operated and are not dominant in their fields, and governmental jurisdictions with populations of less than 50,000.

For the reasons stated in the Regulatory Evaluation section above, the Coast Guard certifies under 5 U.S.C. 605(b) that this rule does not have a significant economic impact on a substantial number of small entities.

This rule affects the following entities, some of which might be small entities: The owners or operators of vessels intending to transit or anchor in portions of Broad Sound and Boston Inner and Outer Harbors during various times from July 10 until 16, 2000. These regulations do not have a significant economic impact on a substantial number of small entities because the Coast Guard notified the public via mailings, facsimiles, Local Notice to Mariners, marine safety information broadcasts, local Port Operators' Group meetings, Propeller Club meetings, the media, the Internet, and Boston area newspapers. Also, on March 9, 2000 the Captain of the Port, Boston hosted a meeting of small passenger vessel operators to detail the scope and content of the marine events and proposed regulations. In addition, the sponsoring organization, Sail Boston 2000, Inc., announced event information in local newspapers, pamphlets, and television and radio broadcasts. The advance notice permitted mariners to adjust their plans accordingly. Although these regulations apply to a substantial portion of the Port of Boston, areas for viewing the Parade of Sail, Boston 2000 Fireworks Extravaganza, Salute to USS CONSTITUTION, and Tall Ships 2000 Race Restart are established to maximize the use of the waterways by commercial vessels that usually operate in the affected areas.

Assistance for Small Entities

Under section 213(a) of the Small Business Regulatory Enforcement Fairness Act of 1996 (Pub. L. 104-121), the Coast Guard offered to assist small entities in understanding the rule so that they can better evaluate its effects on them and participate in the rulemaking.

Assistance was offered at various public forums including Port Operators' Group meetings, Propeller Club meetings, Maritime Incident Resources and Training drills and meetings, and brochure distribution. In addition, information including the preceding NPRM, was posted on Marine Safety Office Boston's Web Page. Moreover, the Coast Guard hosted an informational meeting on March 9, 2000 to thoroughly explain the rule to local small passenger vessel operators.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

An analysis of this rule under E.O. 13132 has determined that this rule does not have implications for federalism under that order.

Unfunded Mandates Reform Act

The Unfunded Mandates Reform Act of 1995 (2 U.S.C. 1531-1538) governs the issuance of Federal regulations that require unfunded mandates. An unfunded mandate is a regulation that requires a State, local or tribal government or the private sector to incur direct costs without the Federal Government having first provided the funds to pay those costs. This rule does not impose an unfunded mandate.

Taking of Private Property

This rule does not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

An analysis of this rule under E.O. 13045, Protection of Children from Environmental Health Risks and Safety Risks has determined that this rule is not an economically significant rule and does not concern an environmental risk to health or risk to safety that may disproportionately affect children.

Environment

The Coast Guard considered the environmental impact of this rule and concluded that, under figure 2-1, paragraphs 34 (f, g, and h) of Commandant Instruction M16475.1C, this rule is categorically excluded from further environmental documentation. A written “Categorical Exclusion Determination” is available in the docket where indicated under ADDRESSES.

List of Subjects

33 CFR Part 100

Marine Safety, Navigation (water), Reporting and recordkeeping requirements, Waterways.

33 CFR Part 110

Anchorage grounds.

33 CFR Part 165

Harbors, Marine safety, Navigation (water), Reporting and recordkeeping requirements, Security measures, Waterways.

For the reasons discussed in the preamble, the Coast Guard amends 33 CFR Parts 100, 110, and 165 as follows:

PART 100—MARINE EVENTS

1. The authority citation for part 100 continues to read as follows:

Authority: 33 U.S.C. 1233 through 1236; 49 CFR 1.46; 33 CFR § 100.35

2. Add temporary § 100.T01-191 to read as follows:

§ 100.T01-191 Regulated Area, Broad Sound, Boston Outer Harbor, and Boston Inner Harbor.

(a) Regulated Areas: All regulated area coordinates are NAD 1983.

(1) Regulated Area A.

(i) Location. The following is Regulated Area A: All waters of Broad Sound and Boston Outer Harbor bounded by 070°52′00″ W, 070°57′13″ W, 42°17′30″ N, and 42°24′42″ N including the following waterways: Nahant Bay, Broad Sound, Boston North Channel, Boston South Channel, Nubble Channel, Hingham Bay, Hull Bay, and Nantasket Roads.

(ii) Enforcement period. Paragraph (a)(1)(i) of this section is enforced from 8 a.m. until 6 p.m. on July 11 and July 16, 2000 respectively.

(2) Regulated Area B.

(i) Location. The following is Regulated Area B: All waters in Boston Inner Harbor westward from a line drawn between Deer Island at position 42°20′38″ N, 070°57′13″ W and Long Island at position 42°19′51″ N, 070°57′13″ W including President Roads, Sculpin Ledge Channel, Dorchester Bay, Western Way, the Boston Main Channel, the Reserved Channel to the Summer Street retractile bridge, the Fort Point Channel to the Congress Street Bridge, the Charles River to the Gridley Locks at the Charles River Dam, the Mystic River to the Alford Street Bridge, and the Chelsea River to the McArdle Bridge.

(ii) Enforcement period. Paragraph (a)(2)(i) of this section is enforced from 8 a.m. on July 11, 2000 until 6 p.m. on July 16, 2000.

(3) Regulated Area C.

(i) Location. The following is Regulated Area C: All waters from Boston Main Channel Light “5” to Charlestown Navy Yard Pier “1” extending fifty (50) yards into the outbound lane of the Boston Main Channel.

(ii) Enforcement period. Paragraph (a)(3)(i) of this section is enforced from 8 a.m. until 6 p.m. on July 11 and July 16, 2000 respectively.

(b) Special local regulation. (1) During the effective period, vessel operators transiting through Regulated Areas A and B shall proceed at no wake speeds not to exceed five (5) miles per hour, unless otherwise authorized by the Captain of the Port.

(2) Vessel operators shall comply with the instructions of on-scene Coast Guard patrol personnel. On-scene Coast Guard patrol personnel include commissioned, warrant, and petty officers of the Coast Guard on board Coast Guard, Coast Guard Auxiliary, U.S. Navy, local, state, and federal law enforcement vessels.

(3) After completion of the fireworks displays on July 15, 2000, vessel operators within Regulated Area B are prohibited from passing outbound patrol vessels showing blue lights.

(4) Vessel operators must remain in established spectator anchorages established in 33 CFR § 110.T01.135-191, from 8 a.m. until 6 p.m. on July 11 and 16, 2000 except as authorized by the Captain of the Port.

(5) Vessel operators anchored in Spectator Anchorages N, P, or Q established in 33 CFR § 110.T01-135-191 may depart those anchorages to view offshore activities following the Salute to USS CONSTITUTION on July 16, 2000, provided they observe enforced safety zones and transit outside main channels. Vessel operators who cannot safely navigate outside of established channels must remain anchored until the channels are reopened to routine navigation.

(6) Vessels, except for those participating in the Grand Parade of Sail and Salute to the USS CONSTITUTION or duly authorized patrol craft, may not enter or remain in the Reserved Channel or block access to any tall ship mooring sites in Regulated Area B from 8 a.m. until 6 p.m. on July 11 and July 16, 2000 except as authorized by the Captain of the Port.

(7) Vessel operators transiting the Reserved Channel during authorized times, not mentioned in (b)(6) of this section, must enter and keep to the starboard side of the channel, proceeding as directed by on-scene Coast Guard patrol personnel. Vessel traffic shall move in a counterclockwise direction around the turning point established off the Sithe New England power plant, as marked by an appropriate on-scene patrol vessel. Vessel operators shall exit the Reserved Channel keeping to the starboard side of the channel.

(8) Vessel operators transiting the regulated areas must maintain at least fifty (50) feet safe distance from all moored tall ships and make way for all deep draft vessel traffic underway in the regulated areas.

(9) Based on COTP approval and direction, vessels commercially engaged in the collection and legal disposal of marine sewage may operate within spectator anchorages during the enforcement periods.

(10) Vessels, except emergency, law enforcement, and those authorized by the Captain of the Port, may not transit through Regulated Area C, which has been designated as an Emergency Transit Lane.

(c) Effective dates. This section is effective from July 10, 2000 until July 16, 2000.

PART 110—ANCHORAGE GROUNDS

3. The authority citation for Part 110 continues to read as follows:

Authority: 33 U.S.C. 471; 1221 through 1236, 2030, 2035, 2071; 49 CFR 1.46 and 33 CFR 1.05-1(g).

4. From July 10, 2000 through July 16, 2000, § 110.134 is temporarily suspended and § 110.T01-135-191 is temporarily added as follows:

§ 110.T01-135-191 Boston Harbor, Mass.

Note: Caution: The designated spectator anchorages in this section have not been specially surveyed or inspected and navigational charts may not show all seabed obstructions or shallowest depths. Additionally, the anchorages are in areas of substantial currents. Mariners who use these temporary anchorages should take appropriate precautions including using all means available to ensure your vessel is not dragging anchor.

(a) The anchorages. All anchorages in this paragraph are applicable as specified. Vessel operators using the anchorages in this paragraph must comply with the general operational requirements specified in paragraph (b) of this section. All coordinates are NAD 1983.

(1) Long Island Anchorage. (i) All bearings are reflected as true. All waters East of Long Island, bounded as follows: Beginning at the southwestern most point of Gallups Island, approximate position 42°19′30″ N, 070°56′24″ W; then 270° to Long Island, approximate position 42°19′30″ N, 070°57′36″ W; then southerly along the eastern shore line of Long Island to Bass Point, approximate position 42°18′50″ N, 070°57′56″ W; then to the northernmost point of Rainsford Island, approximate position 42°18′47″ N, 070°57′07″ W; then to Georges Island Gong Buoy “6,” approximate position 42°19′00″ N, 070°55′50″ W; and then to the point of beginning.

(ii) This anchorage ground is designated for the exclusive use of recreational vessels.

(iii) Paragraph (a)(1)(i) through (ii) is applicable from 12 noon on July 10, 2000 until 6 p.m. on July 11, 2000 and from 12 noon on July 15, 2000 until 6 p.m. on July 16, 2000.

(2) Castle Island Anchorage. (i) All waters bounded on the north by Castle Island and adjacent land; on the east by a line between Castle Rocks Fog Signal Light, located at approximate position 42°20′08″ N, 071°00′13″ W and Old Harbor Shoal Buoy “2”, located at approximate position 42°19′38″ N, 071°00′02″ W; on the southeast by a line between Old Harbor Shoal Buoy “2” and Old Harbor Buoy “6,” located at approximate position 42°19′01″ N, 071°01′21″ W; and on the west by a line running due north from Old Harbor Buoy “6,” located at approximate position 42°19′01″ N, 071°01′21″ W to the shore line at City Point, at approximate position 42°19′56″ N, 071°01′20″ W.

(ii) This anchorage ground is designated for the exclusive use of recreational vessels.

(iii) Paragraph (a)(2)(i) through (ii) is applicable from 12 noon on July 10, 2000 until 6 p.m. on July 11, 2000 and from 12 noon on July 15, 2000 until 6 p.m. on July 16, 2000.

(3) Explosives Anchorage. (i) In the lower harbor, bounded on the northeast by a line between the northeast end of Peddocks Island, approximate position 42°18′10″ N, 070°55′40″ W and the northeast end of Rainsford Island, approximate position 42°18′43″ N, 070°56′55″ W; on the northwest by Rainsford Island; on the southwest by a line between the western extremity of Rainsford Island, approximate position 42°18′40″ N, 070°57′44″ W and the westernmost point of Peddocks Island, approximate position 42°17′27″ N, 070°57′01″ W; and on the southeast by Peddocks Island.

(ii) This anchorage ground is designated for the exclusive use of recreational vessels.

(iii) Paragraph (a)(3)(i) through (ii) is applicable from 12 noon on July 10, 2000 until 6 p.m. on July 11, 2000 and from 12 noon on July 15, 2000 until 6 p.m. on July 16, 2000.

(4) Tall Ship Anchorage. (i) All bearings are reflected as true. All waters in the outer harbor in Broad Sound and Nahant Bay, bounded as follows: On the east by a line connecting Boston North Channel Lighted Bell Buoy “2” on Finns Ledge to Off Rock, located at approximate position 42°22′10″ N, 070°55′10″ W, Littles Point, Swampscott, MA, located at approximate position 42°27′52″ N, 070°53′10″ W and bounded on the west by a line connecting approximate position 42°22′11″ N, 070°56′17″ W and approximate position 42°24′05″ N, 070°57′05″ W; then running from approximate position 42°24′05″ N, 070°57′05″ W to Bailey's Hill Nahant, MA, approximate position 42°25′02″ N, 070°55′20″ W; then north to include Nahant Harbor and Nahant Bay.

(ii) This anchorage is designated for the exclusive use of tall ships participating in the Sail Boston 2000 activities. Vessel movements through these areas during the periods specified, shall be directed by on-scene Coast Guard patrol personnel.

(iii) Paragraph (a)(4)(i) through (ii) is applicable from 12 noon on July 10, 2000 until 6 p.m. on July 16, 2000.

(5) Mystic Anchorage. (i) All bearings are reflected as true. All waters in the inner harbor in the Mystic River off Charlestown, in the vicinity of the old Amstar and Revere Sugar docks, bounded as follows: By a line running along 071°04′00″ W extending into the river four hundred (400) feet from shore; then turning 100° and running to the approximate position 071°03′44″ N, then running east along 071°03′44″ W for four hundred (400) feet back to shore; and then running to the point of beginning.

(ii) This anchorage is designated for the exclusive use of tall ships participating in the Sail Boston 2000 activities. Vessel movements through these areas during the periods specified, shall be directed by on-scene Coast Guard patrol personnel.

(iii) Paragraph (a)(5)(i) through (ii) is applicable from 12 noon on July 10, 2000 until 6 p.m. on July 16, 2000.

(6) Spectator Anchorage B. (i) All bearings are reflected as true. All waters in the inner harbor along the shoreline of East Boston, east of the Boston Main Channel, bounded as follows: By a line from Boston Main Channel Light “14,” approximate position 42°22′17″ N, 071°02′44″ W then extending 270° to the Main Channel's edge at approximate position 42°22′18″ N, 071°02′46″ W, then southwesterly, along Boston Main Channel's eastern edge to approximate position 42°22′17″ N, 071°02′46″ W, then running to approximate position 42°21′50″ N, 071°02′32″ W and then to the southwest corner of Massport Pier “1,” East Boston, approximate position 42°21′52″ N, 071°00′30″ W.

(ii) This anchorage is designated for the exclusive use of recreational vessels 45 feet or less in length with superstructures not to exceed ten (10) feet in height.

(iii) Paragraph (a)(6)(i) through (ii) is applicable from 12 noon on July 10, 2000 until 6 p.m. on July 11, 2000 and from 12 noon on July 15, 2000 until 6 p.m. on July 16, 2000.

(7) Spectator Anchorage C. (i) All bearings are reflected as true. All waters in the inner harbor along the southern edge of Cashman's shipyard, East Boston eastward of the Main Channel, situated to provide a channel between it and Spectator Anchorage D, allowing access to Bird Island Flats, bounded as follows: beginning at approximate position 42°21′32.7″ N, 071°01′53″ W; then 210° to the northern edge of the Boston Main Channel, approximate position 42°21′22″ N, 071°02′03″ W; then northwesterly along Boston Main Channel's edge to approximate position 42°21′42″ N, 71°02′28.4″ W; then running to approximate position 42°21′48″ N, 071°02′23″ W; and then running to the point of beginning.

(ii) This anchorage is designated for the exclusive use of inspected small passenger vessels (certificated by the Coast Guard under Subchapter T and K of Title 46, Code of Federal Regulations).

(iii) Paragraph (a)(7)(i) through (ii) is applicable from 12 noon on July 10, 2000 until 6 p.m. on July 11, 2000 and from 12 noon on July 15, 2000 until 6 p.m. on July 16, 2000.

(8) Spectator Anchorage D. (i) All bearings are reflected as true. All waters in the inner harbor along the southwestern edge of Logan International Airport, East Boston, east of the Main Channel, situated to provide a channel between it and Spectator Anchorage C, allowing access to Bird Island Flats, bounded as follows: Beginning at Bird Island Flats Buoy “2,” approximate position 42°21′29″ N, 071°01′46″ W then running 224° to the northern edge of the Boston Main Channel, approximate position 42°21′20″ N, 071°01′57″ W; then to approximate position 42°21′03″ N, 071°01′18″ W; then turning 024° and running to the shore, approximate position 42°21′13″ N, 071°01′11″ W; and then running to the point of beginning at Bird Island Flats Buoy “2,” approximate position 42°21′29″ N, 071°01′46″ W.

(ii) This anchorage is designated for the exclusive use of recreational vessels forty-five (45) feet or less in length. No vessels may anchor in Spectator Anchorage D from 12:01 a.m. until 6 a.m. and from 6:01 p.m. to 11:59 p.m. on July 11, 2000 and July 16, 2000.

(iii) Paragraph (a)(8)(i) through (ii) is applicable on July 11, 2000 and July 16, 2000.

(9) Spectator Anchorage E. (i) All bearings are reflected as true. All waters in the inner harbor along the southeastern edge of Logan International Airport, bounded as follows: Beginning at Boston Main Channel Lighted Buoy “12,” approximate position 42°20′58″ N, 071°01′08″ W; then turning 030° and running to shore, approximate position 42°21′08″ N, 071°01′00″ W; then along the shore to approximate position 42°20′48″ N, 071°00′27.5′ W; then running to approximate position 42°20′38.3″ N, 071°00′35.6″ W; then running along the northern edge of the Boston Main Channel to the point of beginning.

(ii) This anchorage is designated for the exclusive use of recreational vessels with a height above water at any point not to exceed fifty (50) feet.

(iii) No vessels may anchor in Spectator Anchorage E from 12:01 a.m. to 6 a.m. and from 6:01 p.m. to 11:59 p.m. on July 11th and 16th, 2000.

(iv) Paragraph (a)(9)(i) through (iii) is applicable July 11, 2000 and July 16, 2000.

(10) Spectator Anchorage F. (i) All bearings are reflected as true. All waters in the inner harbor along the Massport North Jetty, South Boston, bounded as follows: Beginning at approximate position 42°21′05″ N, 071°01′54′ W; then running to approximate position 42°20′59″ N, 071°01′39″ W; then running to approximate position 42°20′56″ N, 071°01′41″ W; then running northwesterly along the face of the Massport North Jetty to the corner of the Jetty at approximate position 42°21′01″ N, 071°01′56″ W; and then running to the point of beginning.

(ii) This anchorage is designated for the exclusive use of recreational vessels forty-five (45) feet or less in length with superstructures not to exceed ten (10) feet in height.

(iii) Paragraph (a)(10)(i) through (ii) is applicable from 12 noon on July 10, 2000 until 6 p.m. on July 11, 2000 and from 12 noon on July 15, 2000 until 6 p.m. on July 16, 2000.

(11) Spectator Anchorage G. (i) All waters in the inner harbor along the Fan Pier, South Boston, situated to provide a channel between it and Boston Special Anchorage, allowing access to the Fort Point Channel, bounded and described as follows: beginning at approximate position 42°21′22″ N, 071°02′50″ W; then running to approximate position 42°21′24″ N, 071°02′38″ W; then running to approximate position 42°21′04″ N, 071°02′31″ W; then running to approximate position 42°21′20″ N, 071°02′26″ W; then running to Pier “4” Wreck Buoy (white and orange can, privately maintained), approximate position 42°21′14″ N, 071°02′31″ W; and then running to the point of beginning.

(ii) This anchorage is designated as a special use anchorage, as deemed appropriate by the Captain of the Port. No vessel may anchor in this Anchorage without the permission of the Captain of the Port.

(iii) Paragraph (a)(11)(i) through (ii) is applicable from 12 noon on July 10, 2000 until 6 p.m. on July 11, 2000 and from 12 noon on July 15, 2000 until 6 p.m. on July 16, 2000.

(12) Spectator Anchorage H. (i) All waters in the inner harbor bounded as follows: Beginning at the Boston Main Channel Lighted Buoy “6”, approximate position 42°20′12″ N, 070°59′55″ W; then running to 42°20′12″ N, 070°59′14.5″ W; then to Boston Main Channel Lighted Buoy “4,” approximate position 42°20′04″ N, 070°59′27″ W; and then running to the point of beginning.

(ii) This anchorage is designated for the exclusive use of recreational vessels of any size.

(iv) Paragraph (a)(12)(i) through (ii) is applicable from 12 noon on July 10, 2000 until 6 p.m. on July 11, 2000 and from 12 noon on July 15, 2000 until 6 p.m. on July 16, 2000.

(13) Spectator Anchorage J. (i) All waters in the inner harbor to include the waters between the Main Channel and Governor's Island Flats, bounded as follows: Beginning at approximate position 42°20′12″ N, 070°59′14.5″; W; then running to approximate position 42°20′30″ N, 70°59′14.5″ W; then running to President Roads Anchorage Lighted Buoy “D”, located at approximate position 42°20′33″ N, 70°58′52″ W; then running to approximate position 42°20′05″ N, 070°58′43.5″ W; then running to Boston Main Channel Lighted Bell Buoy “4” located at approximate position 42°20′04″ N, 070°59′26″ W; and then running to the point of beginning.

(ii) This anchorage is designated for the exclusive use of commercial fishing vessels.

(iii) Paragraph (a)(13)(i) through (ii) is applicable from 12 noon on July 10, 2000 until 6 p.m. on July 11, 2000 and from 12 noon on July 15, 2000 until 6 p.m. on July 16, 2000.

(14) Spectator Anchorage K. (i) All bearings are reflected as true. All waters in the inner harbor between the Main Channel and Deer island Flats as follows: Beginning at a point bearing 237°, 522 yards from Deer Island Light; then to a point bearing 254°, 2,280 yards from Deer Island Light; then to a point bearing 261°, 2,290 yards from Deer Island Light; then to a point bearing 278°, 2,438 yards from Deer Island Light; then to a point bearing 319°, 933 yards from Deer Island Light; then to a point bearing 319°, 666 yards from Deer Island Light; and then to the point of beginning.

(ii) This anchorage is designated for the exclusive use of inspected small passenger vessels (certificated by the Coast Guard under Subchapter T and K of Title 46, Code of Federal Regulations), sailing school vessels, uninspected passenger vessels, and bareboat charter vessels from 12 noon on July 10, 2000 until 6 p.m. on July 11, 2000.

(iii) This anchorage is a special use anchorage, as deemed appropriate by the Captain of the Port on July 15-16, 2000. No vessel may anchor in this Anchorage without the permission of the Captain of the Port from 12 noon on July 15, 2000 until 6 p.m. on July 16, 2000.

(iv) Paragraph (a)(14)(i) through (iii) is applicable from 12 noon on July 10, 2000 until 6 p.m. on July 11, 2000 and from 12 noon on July 15, 2000 until 6 p.m. on July 16, 2000.

(15) Spectator Anchorage L. (i) In the inner harbor off the northwestern edge of Long Island into the entrance to Sculpin Ledge Channel, bounded as follows: Beginning at Boston Main Channel Lighted Buoy “17,” approximate position 42°1′57″ N, 070°57′32″ W; then running to approximate position 42°19′40.5″ N, 070°57′50″ W; then running to approximate position 42°19′40.5″ N, 070°58′43.8″ W; then running to Boston Main Channel Lighted Buoy “1,” approximate position 42°19′52″ N, 070°58′44″ W; and then to the point of beginning.

(ii) This anchorage is a special use anchorage, as deemed appropriate by the Captain of the Port on July 10-11, 2000. No vessel may anchor in this Anchorage without the permission of the Captain of the Port from 12 noon on July 10, 2000 until 6 p.m. on July 11, 2000.

(iii) This anchorage is designated for the exclusive use of inspected small passenger vessels (certificated by the Coast Guard under Subchapter T and K of Title 46, Code of Federal Regulations), sailing school vessels, uninspected passenger vessels, and bareboat charter vessels from 12 noon on July 15, 2000 until 6 p.m. on July 16, 2000.

(iv) Paragraph (a)(15)(i) through

(iii) is applicable from 12 noon on July 10, 2000 until 6 p.m. on July 11, 2000 and from 12 noon on July 15, 2000 until 6 p.m. on July 16, 2000.

(16) Spectator Anchorage M. (i) All waters in the inner harbor along the northern edge of Spectacle Island, bounded as follows: Beginning at 42°20′00″ N, 071°00′00″ W; then running to Boston Main Channel Lighted Buoy “3,” approximate position 42°19′52″ N, 070°59′28″ W; then to Boston Main Channel Lighted Buoy “1,” approximate position 42°19′52″ N, 070°58′44″ W; then running to approximate position 42°19′40″ N, 070°59′57″ W; and then running to the point of beginning.

(ii) This anchorage is designated for the exclusive use of recreational vessels of any size.

(iii) Paragraph (a)(16)(i) through (ii) is applicable from 12 noon on July 10, 2000 until 6 p.m. on July 11, 2000 and from 12 noon on July 15, 2000 until 6 p.m. on July 16, 2000.

(17) Spectator Anchorage N. (i) All waters in the outer harbor along the western edge of the Boston North Channel bounded as follows: Beginning at Boston North Channel Lighted Bell Buoy “10,” approximate position 42°20′37″ N, 070°56′32″ W; then running to Boston North Channel Lighted Buoy “4,” approximate position 42°21′38″ N, 070°55′47″ W; then running to 42°22′00″ N, 070°56′24″ W; then running to approximate position 42°21′40″ N, 070°56′17.5″; W; then running to approximate position 42°21′20.5″ N, 070°56′10″ W; then running to approximate position 42°20′39″ N, 070°56′38.5″ W; and then running to the point of beginning.

(ii) This anchorage is designated for any latecoming spectator craft on hand to view the Grand Parade of Sail and Salute to USS CONSTITUTION Parade.

(iii) Paragraph (a)(17)(i) through (ii) is applicable from 12 noon on July 10, 2000 until 6 p.m. on July 11, 2000 and from 12 noon on July 15, 2000 until 6 p.m. on July 16, 2000.

(18) Spectator Anchorage P. (i) All bearings are reflected as true. All waters in the outer harbor between the eastern edge of the Boston North Channel and Boston South Channel, bounded as follows: Beginning at Boston North Channel Lighted Buoy “3,” approximate position 42°21′55″ N, 070°55′13″ W; then running southeast to Boston South Channel Lighted Buoy “6,” approximate position 42°21′14″ N, 070°54′48″ W; then running along the northern edge of Boston South Channel to Boston South Channel Lighted Buoy “10,” approximate position 42°20′46″ N, 070°55′10″ W; then running to Boston North Channel Lighted Buoy “PR,” approximate position 42°20′29″ N, 070°56′13″ W; then running along the eastern edge of the Boston North Channel to the point of beginning.

(ii) This anchorage is designated for any latecoming spectator craft on hand to view the Grand Parade of Sail and Salute to USS CONSTITUTION Parade.

(iii) Paragraph (a)(18)(i) through (ii) is applicable from 12 noon on July 10, 2000 until 6 p.m. on July 11, 2000 and from 12 noon on July 15, 2000 until 6 p.m. on July 16, 2000.

(19) Spectator Anchorage Q. (i) All waters in the outer harbor at the entrance to the Boston South Channel, bounded as follows: Beginning at Boston North Channel Lighted Buoy “PR,” approximate position 42°20′29″ N, 070°56′13″ W; then running to Boston South Channel Lighted Buoy “10,” approximate position 42°20′46″ N, 070°55′10″ W; then running to Boston South Channel Buoy “11,” approximate position 42°20′29″ N, 070°55′28″ W then running to approximate position 42°20′15″ N, 070°56′23″ W; and then running to the point of beginning.

(ii) This anchorage is designated for the exclusive use of inspected small passenger vessels (certificated by the Coast Guard under Subchapter T and K of Title 46, Code of Federal Regulations), sailing school vessels, uninspected passenger vessels, and bareboat charter vessels.

(iii) Paragraph (a)(20)(i) through (ii) is applicable from 12 noon on July 10, 2000 until 6 p.m. on July 11, 2000 and from 12 noon on July 15, 2000 until 6 p.m. on July 16, 2000.

(b) The regulations. The anchorages designated in paragraphs (a)(1) through (19) of this section are subject to the following regulations:

(1) General Operational Requirements for all anchorages. Vessel operators using any of the anchorages established in this section shall:

(i) Ensure their vessels are properly anchored and remain safely in position at anchor during marine events.

(ii) Comply as directed by on-scene Coast Guard patrol personnel. On-scene Coast Guard patrol personnel include commissioned, warrant, and petty officers of the Coast Guard on board Coast Guard, Coast Guard Auxiliary, U.S. Navy, local, state, and federal law enforcement vessels.

(iii) Vacate anchorages after termination of their effective periods.

(iv) Buoy with identifiable markers and release anchors fouled on lobster trap lines if such anchors cannot be freed or raised.

(v) Use only Spectator Anchorages N, P, or Q if going offshore to view the tall ship events occurring in Massachusetts Bay on July 11, 2000 and July 16, 2000.

(vi) Display anchor lights when anchoring at night in any anchorage.

(vii) Not leave vessels unattended in any anchorage at any time.

(viii) Not tie off to any buoy.

(ix) Maintain at least twenty (20) feet of clearance if maneuvering between anchored vessels.

(x) Not nest or tie off to other vessels in that anchorage.

(xi) Not block access to designated emergency medical evacuation areas.

(xii) Based on COTP approval and direction, vessels commercially engaged in the collection and legal disposal of marine sewage may operate within spectator anchorages during the applicable periods.

(c) Effective dates. This section is effective from July 10, 2000 until July 16, 2000.

PART 165—REGULATED NAVIGATION AREAS AND LIMITED ACCESS AREAS.

The authority citation for part 165 continues to read as follows:

Authority: 33 U.S.C. 1225 and 1231; 50 U.S.C. 191; 49 CFR 1.46 and 33 CFR 1.05-1(G), 6.04-1, 6.04-6, and 160.5.

5. Add § 165.T01-191 to read as follows:

§ 165.T01-191 Safety Zone: Tall Ship Rally and Grand Parade of Sail, Broad Sound and Boston Harbor, Boston, MA.

(a) Location. The following are safety zones (all coordinates are NAD 1983): (1) All waters within a three hundred (300) yard radius of each vessel participating in the Grand Parade of Sail as it proceeds from approximate position 42°24′00″ N, 070°52′00″ W in Broad Sound, following the Boston North Channel and Boston Main Channel to various mooring sites throughout Boston Inner Harbor.

(2) All waters within a five hundred (500) yard radius from approximate position 42°23′06″ N, 070°53′26″ W; and

(3) All tall ship anchorages established in 33 CFR § 110.T01-135-191.

(b) Applicable dates. Paragraphs (a)(1) through (a)(3) of this section are applicable from 6 p.m. on July 10, 2000 until 6 p.m. on July 11, 2000.

(c) Regulations. The following regulation applies: Vessels, except those participating in the Grand Parade of Sail, and duly authorized patrol craft, may not transit the safety zone except as authorized by the Captain of the Port.

6. Add § 165.T01-192 to read as follows:

§ 165.T01-192 Safety Zone: Boston 2000 Fireworks Extravaganza, Boston Inner Harbor, Boston, MA.

(a) Location. The following is a safety zone: All waters within a four hundred (400) yard radius of Boston 2000 Fireworks Extravaganza barges and attending tug boats moored at approximate position 42°21′23″ N, 071°02′18″ W. All coordinates are NAD 1983.

(b) Applicable date. Paragraph (a) of this section is applicable from 8 p.m until 11 p.m. on July 15, 2000.

(c) Regulations. The following regulation applies:

Vessels may not transit through the safety zone unless authorized by the Captain of the Port.

7. Add § 165.T01-193 to read as follows:

§ 165.TO1-193 Safety Zone: Salute to USS CONSTITUTION Parade, Boston Harbor, Boston, MA.

(a) Location. The following are safety zones: (1) All waters within a three hundred (300) yard radius of the USS CONSTITUTION anchored at approximate position 42°20′24″ N, 071°58′14″ W.

(2) A moving safety zone within a three hundred (300) yard radius of all vessels participating in the Salute to the USS CONSTITUTION as they proceed from their various Boston Inner Harbor mooring sites transiting outbound using the Boston Main Channel and Boston North Channel to the Tall Ship 2000 Restart in Broad Sound established in 33 CFR 165.T01-194. The zone also includes all temporary spectator anchorages established in 33 CFR § 110.T01-135-191. All coordinates are NAD 1983.

(b) Applicable date. Paragraphs (a)(1) through (a)(3) of this section are applicable from 8 a.m. until 6 p.m. on July 16, 2000.

(c) Regulations. The following regulation applies: Vessels, except for those participating in the Salute to USS CONSTITUTION and duly authorized patrol craft, may not enter or remain in the safety zone except as authorized by the Captain of the Port.

8. Add § 165.T01-194 to read as follows:

§ 165.T01-194 Safety Zone: Tall Ships 2000 Race Restart, Massachusetts Bay, Boston, MA.

(a) Location. The following is a safety zone: All waters in a three (3) square mile area in Massachusetts Bay bounded as follows: Beginning at approximate position 42°27′12″ N, 070°40′00″ W; then running to approximate position 42°27′12″ N, 070°36′00″ W; then running to approximate position 42°24′06″ N, 070°36′00″ W; then running to approximate position 42°24′06″ N, 070°40′00″ W; and then running to the point of beginning. All coordinates are NAD 1983.

(b) Applicable date. Paragraph (a) of this section is applicable from 10 a.m. until 6 p.m. on July 16, 2000.

(c) Regulations. The following regulation applies: Vessels, except for those participating in the Tall Ships 2000 Race Restart, and duly authorized patrol craft, may not enter or remain in the safety zone from 10 a.m. to 6 p.m. except as authorized by the Captain of the Port.

9. Add § 165.T01-195 to read as follows:

§ 165.T01-195 Security Zone: USS JOHN F. KENNEDY, North Jetty, Boston Harbor, Boston, MA.

(a) Location. The following is a security zone: All waters of Boston inner harbor at the North Jetty, South Boston, bounded as follows: Beginning at approximate 42°20′53″ N, 071°01′34″ W; then running to 42°20′56″ N, 071°01′32″ W; along the western edge of Boston Harbor South Channel then running to 42°20′51″ N, 071°01′23″ W; then running to 42°20′49″ N, 071°01′24″ W; then running along the pier face to the point of beginning. All coordinates are NAD 1983.

Effective dates. This section is effective from July 10, 2000 through July 16, 2000.

(b) Regulations. The following regulation applies: Vessels may not enter the security zone unless authorized by the Captain of the Port.

Dated: June 6, 2000.
G.N. Naccara,
Rear Admiral, U.S. Coast Guard, Commander, First Coast Guard District.

[FR Doc. 00-15321 Filed 6-16-00; 8:45 am]

BILLING CODE 4910-15-U